DEPARTMENT OF HEALTH AND HUMAN SERVICES

Administration for Children and Families

[CFDA Number: 93.592]

Announcing the Award of a Single-Source Program Expansion Supplement Grant to the Asian & Pacific Islander American Health Forum in Oakland, CA

AGENCY: Family and Youth Services Bureau, ACYF, ACF, HHS.

ACTION: Notice of the award of a single-source program expansion supplement grant under the Family Violence Prevention and Services Act (FVPSA) Technical Assistance (TA) Project to the Asian & Pacific Islander American Health Forum in Oakland, CA, to support training and technical assistance activities by the Asian and Pacific Islander Institute on Domestic Violence (APIIDV).

SUMMARY: The Administration for Children and Families (ACF), Administration on Children, Youth and Families (ACYF), Family and Youth Services Bureau (FYSB), Division of Family Violence and Prevention Services (DFVPS), announces the award of $175,000 as a single-source program expansion supplement grant to the Asian & Pacific Islander American Health Forum. The grantee, funded under the Family Violence Protection and Services Act (FVPSA) program, is a technical assistance (TA) provider that assists FVPSA service providers to build the capacity of domestic violence programs.

DATES: The period of support for the single-source program expansion supplement is September 30, 2015 through September 29, 2016.

FOR FURTHER INFORMATION CONTACT: Seema Zeya, Program Specialist, Family Violence Prevention and Services Program, 1250 Maryland Avenue SW., Suite 8220, Washington, DC 20024. Telephone: 202-205-7889; Email: Seema.Zeya@acf.hhs.gov.

SUPPLEMENTARY INFORMATION: Supplemental award funds will support the grantee, Asian & Pacific Islander American Health Forum, in providing training and technical assistance (T/TA) to domestic violence service providers by the Asian and Pacific Islander Institute on Domestic Violence (APIIDV) in San Francisco, CA.

This award will expand the scope of T/TA activities to include supplemental activities concerning the issue of trafficking for domestic violence programs, which may involve activities including:

• Training on the intersection of issues related to domestic violence, sexual violence, and victims of trafficking including:

• Listening sessions with FVPSA grantees and culturally specific, community-based organizations regarding needs, challenges, and barriers related to offering services on trafficking;

• Documentation of current promising practices for serving survivors of trafficking within domestic violence programs and culturally specific, community-based organizations;

• Development of a TA plan for fostering and sustaining collaborative partnerships on domestic violence and human trafficking, which may include a community pilot program;

• Resource development that will include the development and dissemination of factsheets and/or concept papers on the intersection of issues related to domestic violence and human trafficking that will provide recommendations that will enhance the provision of direct services for victims, facilitate strengthening multidisciplinary partnerships, or the development of culturally-informed trauma-related programming; and

• Convening a working group that examines typologies related to human trafficking that are specific to Asian communities that will develop intervention and prevention recommendations for service providers and TA providers.

In addition, APIIDV will support and provide training on the issue of language access planning for domestic violence programs that will include activities such as:

• Training and technical assistance for the 20 State Domestic Violence Coalitions that have already completed the 2015 Training of Trainers;

• Listening sessions with FVPSA state administrators, coalitions, and culturally-specific community-based organizations;

• Documentation of the technical assistance needs, implementation successes, and implementation challenges of the 20 states that are beginning language access planning and are working to improve language accessibility within their states; and

• Recommendations for state-specific capacity building for the 20 states intended to enhance statewide language access, which will include the development of language access plans.

An objective review of was conducted that assessed the grantee's application using criteria related to the project's approach, the organization's capacity, and the development of costs for the project's budget.

Statutory Authority: Section 310 of the Family Violence Prevention and Services Act, as amended by Section 201 of the CAPTA Reauthorization Act of 2010, Pub. L. 111-320.

Christopher Beach,
Senior Grants Policy Specialist, Division of Grants Policy, Office of Administration.

[FR Doc. 2016-01329 Filed 1-22-16; 8:45 am]

BILLING CODE 4184-32-P